DEPARTMENT OF COMMERCE

International Trade Administration

[A-570-601]

Tapered Roller Bearings and Parts Thereof, Finished and Unfinished, From the People's Republic of China; Notice of Extension of Time Limit for New Shipper Reviews

AGENCY: Import Administration, International Trade Administration, Department of Commerce.

ACTION: Notice of Extension of Time Limit.

EFFECTIVE DATE: February 27, 2002.

FOR FURTHER INFORMATION CONTACT: Jarrod Goldfeder or S. Anthony Grasso, Import Administration, International Trade Administration, U.S. Department of Commerce, 14th Street and Constitution Avenue, NW, Washington DC 20230; telephone (202) 482-0189 or (202) 482-3853, respectively.

SUPPLEMENTARY INFORMATION:

Statutory Time Limits

Section 751(a)(2)(B)(iv) of the Tariff Act of 1930, as amended (“the Act”), requires the Department to issue the preliminary results of a new shipper review within 180 days after the date on which the new shipper review was initiated and the final results within 90 days after the date on which the preliminary results were issued. However, if the Department concludes that the case is extraordinarily complicated, section 751(a)(2)(B)(iv) of the Act allows the Department to extend these deadlines to a maximum of 300 days and 150 days, respectively.

Background

On January 24, 2001, the Department published a notice of initiation of new shipper antidumping duty reviews of TRBs from the PRC, covering the period June 1, 2000 through November 30, 2000 (66 FR 8385) for Yantai Timken Company Limited and Peer Bearing Company - Changshan (“CPZ”). On May 9, 2001, the Department expanded CPZ's period of review to January 31, 2001. On November 29, 2001, the Department published its preliminary results. See 66 FR 59569 (November 29, 2001). In our notice of preliminary results, we stated our intention to issue the final results of these reviews by no later than 90 days from the issuance of the preliminary results.

Extension of Time Limits for Preliminary Results

Due to the complexity of certain issues, such as market-economy inputs and a request for a changed circumstances review, the Department concludes that these reviews are extraordinarily complicated. Therefore, the Department is extending the time limit for completion of these final results to not later than March 5, 2002, in accordance with section 751(a)(2)(B)(iv) of the Act.

This extension is in accordance with section 751(a)(2)(B) of the Act.

February 19, 2002.
Susan Kuhbach,
Acting Deputy Assistant Secretary for AD/CVD Enforcement.

[FR Doc. 02-4534 Filed 2-26-02; 8:45 am]

BILLING CODE 3510-DS-S